DEPARTMENT OF AGRICULTURE

Rural Utilities Service

Household Water Well System Grant Program Announcement of Application Deadlines and Funding

AGENCY: Rural Utilities Service, USDA.

ACTION: Notice of funding availability and solicitation of applications.

SUMMARY: The United States Department of Agriculture's (USDA) Rural Utilities Service (RUS) announces the availability of $993,000 in grant funds for the Household Water Well System (HWWS) Grant Program for fiscal year (FY) 2009, to be competitively awarded. A notice of funding availability and solicitation of applications was published in the November 20, 2008 Federal Register, 73 FR 70315, prior to passage of a final appropriations bill identifying a definite funding amount. For information and other requirements on how to apply for HWWS Grant Program funds, please refer to the November 20, 2008 issue of the Federal Register.

The HWWS Grant Program is authorized under Section 306E of the Consolidated Farm and Rural Development Act (CONACT), 7 U.S.C. 1926e. The CONACT authorizes USDA Rural Development to make grants to qualified private nonprofit organizations to establish lending programs for household water wells. The non-profit organizations will use the grants to make loans to individual homeowners to construct or upgrade a household water well system for an existing home. The organizations must contribute an amount equal to at least 10 percent of the grant request to capitalize the loan fund. Applications may be submitted in paper or electronic format. The HWWS Grant Program regulations are contained in 7 CFR part 1776.

DATES: The deadline for completed applications for a HWWS grant is May 31, 2009. Applications in either paper or electronic format must be postmarked or time-stamped electronically on or before the deadline. Late applications will be ineligible for grant consideration.

ADDRESSES: Submit electronic grant applications through http://www.grants.gov (Grants.gov), following the instructions on that Web site. Submit completed paper applications to the U.S. Department of Agriculture, Rural Utilities Service, Mail Stop #1570, Room 2233-S, 1400 Independence Ave., SW., Washington, DC 20250-1570. Applications should be marked “Attention: Water and Environmental Programs.” Application guides and materials for the HWWS Grant Program may be obtained electronically through http://www.usda.gov/rus/water/index.htm. Call (202) 720-9589 to request paper copies of application guides and materials from the Water and Environmental Programs staff.

FOR FURTHER INFORMATION CONTACT: Cheryl Francis, Loan Specialist, U.S. Department of Agriculture, Rural Development Programs, Water and Environmental Programs, telephone: (202) 720-1937, fax: (202) 690-0649, e-mail: cheryl.francis@wdc.usda.gov.

Dated: April 20, 2009.
James R. Newby,
Acting Administrator, Rural Utilities Service.

[FR Doc. E9-9728 Filed 4-28-09; 8:45 am]

BILLING CODE P